NATIONAL SCIENCE FOUNDATION

Notice of the Availability of Two Comprehensive Environmental Evaluations for Antarctic Activities

AGENCY: National Science Foundation (NSF).

ACTION: Notice of availability of two draft Environmental Impact Statements/Comprehensive Environmental Evaluations (EIS/CEEs) for activities proposed to be undertaken in Antarctica.

SUMMARY: The National Science Foundation gives notice of the availability of two draft Environmental Impact Statements/Comprehensive Environmental Evaluations (EIS/CEEs) for activities proposed to be undertaken in Antarctica. Interested members of the public are invited to submit comments relative to these EIS/CEEs.

DATES: Comments must be submitted on or before June 1, 2004.

ADDRESSES: Send comments to Polly A. Penhale, Office of Polar Programs, Room 755, National Science Foundation, 4201 Wilson Boulevard, Arlington, VA 22230, or to ppenhale@nsf.gov.

FOR FURTHER INFORMATION CONTACT: Polly A. Penhale, Program Manager, Office of Polar Programs, (703) 292-8033.

SUPPLEMENTARY INFORMATION: Article 3 of Annex I to the Protocol on Environmental Protection of the Antarctic Treaty required the preparation of an EIS/CEE for any proposed Antarctic activity likely to have more than a minor or transitory impact. Draft EIS/CEEs are to be made publicly available with a 90-day period for receipt of comments, as specified in 45 CFR 641.18(c). This notice is published pursuant to 16 U.S.C. 2403a.

The National Science Foundation has submitted two draft EIS/CEEs:

1. An EIS/CEE for development and implementation of surface traverse capabilities in Antarctica. The document is available at the following Web site: http://www.nsf.gov/od/opp/antarct/treaty/cees/traverse/traverse_cee.pdf.

2. An EIS/CEE for the operation of a high-energy neutrino telescope (Project IceCube) at the South Pole. The document is available at the following Web site: http://www.nsf.gov/od/opp/antarct/treaty/cees/icecube/icecube_cee.pdf.

The National Science Foundation invites interested members of the public to provide written comments on these draft EIS/CEEs.

Robert A. Wharton,
Executive Officer, Officer of Polar Programs, National Science Foundation.

[FR Doc. 04-4729 Filed 3-2-04; 8:45 am]

BILLING CODE 7555-01-M